DEPARTMENT OF LABOR

Office of Disability Employment Policy; High School/High Tech State Grants

AGENCY: Office of Disability Employment Policy, Labor.

ACTION: Notice of Availability of Funds and Solicitation for Grant Applications of High School/High Tech State Grants (SGA 02-14).

SUMMARY: The U.S. Department of Labor (DOL), Office of Disability Employment Policy (ODEP) announces the availability of $500,000 to award two to five competitive grants in the amount of $100,000 to $250,000 each to further expand the integration of the High School/ High Tech (HS/HT) program into the One-Stop Center System established under the Workforce Investment Act of 1998 (WIA) (Public Law 105-220, 29 U.S.C. 2801 et seq.). State Workforce Investment Boards; State Departments of Education; State Departments of Labor; State Developmental Disability Councils; State Departments of Vocational Rehabilitation; State Committees affiliated with the National Governors' Committees for People with Disabilities; and Workforce Investment representatives from the District Columbia, Puerto Rico, and other United States Territories and Commonwealths, and other similar state agencies are eligible applicants for these grants. Grants will be awarded for a 24-month period of performance. After two years of support, it is anticipated that the grantees will have identified and developed the funds and resources needed to continue the expansion of High School/High Tech programs within their states.

The purpose of these grants is to assist states in developing statewide High School/High Tech infrastructure and operations and integrating the HS/HT programs into the youth services provided through the One-Stop Center System. HS/HT is a series of nationally established programs designed to provide young people with disabilities with an opportunity to explore careers or further education leading to technology-related careers. These programs, which have generally been locally directed and supported, serve both in-school or out-of-school youth with all disabilities in a year round program of corporate site visits, mentoring, job shadowing, guest speakers, after school activities and summer internships. These grants are intended to assist states in planning and implementing a statewide HS/HT network working in partnership with the State Workforce Investment Board.

DATES: The closing date for receipt of applications under this announcement is August 21, 2002. Submit one ink-signed original, complete grant application plus two copies of the Technical Proposal and two copies of the Cost Proposal to the U.S. Department of Labor, Procurement Services Center, Attention Grant Officer, Reference SGA 02-14, Room N-5416, 200 Constitution Avenue, NW., Washington, DC, 20210, not later than 4:45 p.m. Eastern Daylight Savings Time (EDST), August 21, 2002. Hand-delivered applications must be received by the Procurement Services Center by that time.

ADDRESSES: Grant applications must be directed to the U.S. Department of Labor, Procurement Services Center, Attention: Grant Officer, Reference SGA 02-14, Room N-5416, 200 Constitution Avenue, NW., Washington, DC 20210.

FOR FURTHER INFORMATION CONTACT: This SGA offers complete guidance on how to submit a proposal. Questions concerning this solicitation may be directed to Cassandra Willis, at phone (202) 693-4570 (this is not a toll-free number). Persons who are deaf or hard of hearing may contact the Department via the Federal Relay Service, (800) 877-8339.

Late Proposals: All applicants are advised that U.S. mail delivery in the Washington, DC, area has been erratic due to concerns involving anthrax contamination. All applicants must take this into consideration when preparing to meet the application deadline. Therefore, it is recommended that you confirm receipt of your application(s) by contacting Cassandra Willis, U.S. Department of Labor, Procurement Services Center, at 202/693-4570, prior to the closing deadline. Persons who are deaf or hard of hearing may contact the Department via the Federal Relay Service, (800) 877-8339.

Acceptable Methods of Submission: The grant application package must be received at the designated place by the date and time specified or it will not be considered. Any application received at the Office of Procurement Services Center after 4:45 p.m., EDST, August 21, 2002, will not be considered unless it is received before the award is made and:

1. It was sent by registered or certified mail not later than the fifth calendar day before August 21, 2002; or

2. It was sent by U.S. Postal Service Express Mail Next Day Service-Post Office to Addressee, not later than 5 p.m. at the place of mailing two working days, excluding weekends and Federal holidays, prior to August 21, 2002; and/or

3. It is determined by the Government that the late receipt was due solely to mishandling by the Government after receipt at the U.S. Department of Labor at the address indicated.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped or otherwise placed impression (not a postage meter machine impression) that is readily identifiable without further action as having been applied and affixed by an employee of the U.S. Postal Service on the date of mailing. Therefore, applicants should request the postal clerk place a legible hand cancellation “bull's-eye” postmark on both the receipt and the envelope or wrapper.

The only acceptable evidence to establish the time of receipt at the U.S. Department of Labor is the date/time stamp of the Procurement Services Center on the application wrapper or other documentary evidence or receipt maintained by that office.

Applications sent by other delivery services, such as Federal Express, UPS, etc., will also be accepted; however the Department does not accept dates or date stamps on such packages as evidence of timely mailing. Thus, the applicant bears the responsibility of timely submission.

All applicants are advised that U.S. mail delivery in the Washington, DC, area has been erratic due to concerns involving anthrax contamination. All applicants must take this into consideration when preparing to meet the application deadline. Therefore, it is recommended that you confirm receipt of your application by contacting Cassandra Willis, U.S. Department of Labor, Procurement Services Center, telephone (202) 693-4570 (this is not a toll-free number), prior to the closing deadline. Persons who are deaf or hard of hearing may contact the Department via the Federal Relay Service, (800) 877-8339.

SUPPLEMENTARY INFORMATION:

I. Authority

Consolidated Appropriations Act, 2001, Pub. L. 106-554, 114 Stat. 2763; 29 U.S.C. 557b; DOL, HHS, Education and Related Appropriations Act, 2002, Pub. L. 107-116, 115 Stat. 2177.

II. Background

According to the U.S. Department of Education, the national high school graduation rates (e.g., diplomas, GED, alternative certificates) for students with disabilities are below that of youth without disabilities. According to the National Center on Education Statistics (2001), 88% of students without disabilities graduate; according to the Office of Special Education Programs (2000) 62% of youth with disabilities graduate. Students with disabilities experience a school drop out rate of 31%, compared to 11% of non-disabled youth. Youth with emotional disabilities experience an even higher drop out rate of 54%. Further, it is estimated that only one-third of young people with disabilities who need job training receive it. Young people with disabilities also have significantly lower rates of participation in post-secondary education. Finally, the Social Security Administration has found that many young people with disabilities who enter the Supplementary Security Income (SSI)/Social Security Disability Insurance (SSDI) rolls are likely to remain on the program rolls for their entire lives.

The Federal/State vocational rehabilitation system is neither large enough to serve, nor solely responsible for serving all youth with disabilities that depart the school system. According to the U.S. Department of Education, each year approximately 500,000 young people with disabilities leave our nation's schools. Vocational rehabilitation programs are able to serve less than 40,000 of these young people with disabilities. A large portion of the remaining 460,000 youth with disabilities is potentially eligible for youth programs financially assisted under WIA.

The current expectations of public education and workforce development systems, along with employers, parents and young people with disabilities often fail to recognize the potential that young people with disabilities have for jobs and careers, particularly in technology-related occupations. As a result, youths with disabilities are seldom afforded post-secondary preparation and educational opportunities leading to internships and placements in technology-related careers. This is a tragic loss of potential. People with disabilities have demonstrated that they can be successful in technology-based occupations and these positions represent an increasing segment of the workforce.

The U.S. Department of Labor has determined that youth programs need to be strengthened to better serve young people with disabilities. Among ODEP's responsibilities is to provide technical assistance and support designed to assist various youth programs, including WIA-assisted youth programs, and thereby increase the capacity of those programs to serve people with disabilities. These activities will substantially contribute to achieving the goals of the President's New Freedom Initiative particularly as it relates to increasing the ability of Americans with disabilities to integrate into the workforce.

A key to increasing the employment of people with disabilities is to ensure that young people with disabilities are provided resources and assistance to move from school to work, as opposed to becoming dependent on welfare or other benefits programs. One way of accomplishing this is to increase the participation of youth with disabilities in transition programs like the Workforce Investment Act (WIA) youth programs and High School/High Tech (HS/HT). The WIA youth-focused programs and activities hold tremendous potential to support career development activities for young people with disabilities.

WIA youth service providers, however, may not be aware of the need to serve youth with disabilities in their communities and may lack the resources to develop strong partnerships and an equitable referral and assessment system. In addition, Vocational Rehabilitation agencies, Special Education agencies, and other agencies serving youth with disabilities may not be informed about the potential for coordinating resources with WIA-based programs, or for creating mechanisms for such programs to cooperate and support young people with disabilities. HS/HT, an existing program that has proven effective in attracting high school aged youth with disabilities to technology careers, can help bridge this gap.

HS/HT programs currently operate in 75 communities, across the nation. As HS/HT is a community-based partnership, different entities run the local HS/HT operations across the country. Current HS/HT operators include non-profits (Goodwill, Centers for Independent Living, United Cerebral Palsy Affiliates, and others), community colleges, universities and school districts. Funding for the sites is managed locally. Therefore, funding comes from a variety of local, state, and national resources. In order for HS/HT to continue to flourish, state level organization and coordination are needed.

The HS/HT program works within community and state systems to help coordinate the delivery of education and transition services to students with disabilities. Its stakeholders include employers, educators, consumers, family members, workforce system agencies, and rehabilitation professionals. The HS/HT program offers states proven techniques for developing improved employment outcomes for young people with disabilities.

HS/HT graduates demonstrate at least a doubling of post-secondary education achievements. At some HS/HT sites, as many as 70% of HS/HT graduates move on to post-secondary education. HS/HT clearly enhances expectations, educational achievements and eventual employment outcomes for a population who, without this intervention, is far more likely to move onto the Supplemental Security Income (SSI) or Social Security Disability Insurance (SSDI) rolls than to find competitive employment in technology related occupations.

Last year ODEP funded start-up HS/HT sites that began connecting HS/HT and WIA youth programs at the community level and the funds awarded under the current SGA are intended to expand upon that effort. The goals of HS/HT match the Workforce Investment Act's youth programming themes of employment preparation, educational achievement, support, and leadership. The HS/HT model includes eight of the ten programming elements required for youth programs funded by WIA: (1) Summer employment opportunities; (2) work experiences; (3) occupational skills training; (4) tutoring; (5) supportive services; (6) adult mentoring; (7) comprehensive guidance; and (8) leadership development. See section 129(c)(2) of the WIA, codified at 29 U.S.C. 2854(c)(2). By linking HS/HT and WIA and additional resources at a state level, students with disabilities will have an increased opportunity to participate in meaningful school-to-career initiatives.

III. Purpose

High School/High Tech sites have traditionally worked with community systems to coordinate the delivery of educational and transitional services to youths with disabilities. The purpose of this SGA is to bring HS/HT to the state level. This will allow the resources within a state to be maximized and coordinated for the benefit of all HS/HT sites in a state. HS/HT state directors will work with key stakeholders (workforce investment systems, colleges, developmental disability councils, governors' committees on the employment of people with disabilities, employers, educators, rehabilitation professionals, consumers, and parents) to institutionalize the program within the state.

As a community-based, work-based, and school-based program, HS/HT is designed to provide opportunities for students with disabilities to explore careers in technology-related occupations. HS/HT students across the nation learn first-hand what it is like to work in high tech environments. Preparatory experiences (career information and assessment, computer training, visiting colleges, and guest speakers), work-based experiences (internships, site visits, mentoring, and job shadowing), leadership development (mentoring, self-advocacy training, and community service), and connecting activities (assistive technology, tutoring, and transportation) all provide students with the opportunities to learn more about careers in science, engineering and technology-related fields.

To learn about the structure and operations of the High School/High Tech Program, consult the High School/High Tech Program Guide at http://www2.dol.gov/odep/media/reports/hsht00/toc.htm.

IV. Statement of Work

These grant funds are not intended as direct service payments for youth with disabilities. Rather, these funds are intended to be used in ways which create the adoption (systems change) of a statewide HS/HT initiative and which involve the development or demonstration of promising new strategies with potential replicability that build upon existing HS/HT strategies.

This system will better serve youth with disabilities as they transition from high school to post-secondary education or the work world.

The Project Narrative of the grant application must provide complete information that will address the requirements of this SGA, including the following:

A. Leadership

The application must discuss how the applicant will establish leadership from, or a working relationship with, a State Workforce Investment Board, State Department of Labor, State Department of Education, State Vocational Rehabilitation, WIA youth-related entity, or other community partners (e.g., area disability organizations, state committees on employment of people with disabilities, centers for independent living, interested employers) in the establishment and operation of a state level HS/HT program. At least three categories of the above listed organizations must be represented in and be a part of the state-level leadership team, with the State Workforce Investment Board as a mandatory partner. Describe any actions already taken by the applicant to address the need for a statewide HS/HT leader.

B. Strategic Plan for the State

The application must address the proposed design for a state-based HS/HT infrastructure. The plan should include: the partners' (as listed in paragraph A) roles within the state's HS/HT operations; how the partners will integrate resources to advance the HS/HT model; the plan for long term funding for the initiative; plans for developing or increasing the number of sites; and possible policy implications and changes resulting from an improved delivery system for all high school-aged youth with disabilities transitioning to post-secondary education or the world of work.

C. High School/High Tech Sites

The application must include a strategy to replicate HS/HT programs throughout the state. In the first year of the grant the state director will establish, at a minimum, one new site. In the second year of the grant the state director will establish at least two additional sites. Applications must identify tentative locations for such sites and likely partners at the sites.

D. State Director

This person must have sufficient knowledge and experience to expand HS/HT at a state level. Attach the resume or position description of the state director to the application.

E. Data

Describe plans to report the demographic characteristics of students, types of programming activities and program outcomes (post-secondary education and employment) of youth with disabilities served through HS/HT in the state; and compare their performances with students not enrolled in the program.

F. Resources

Describe the strategy for gaining the support of area employers, people with disabilities and their family members. Identify federal, state, and local public sector resources, as well as local non-profit sector resources which will be leveraged for purposes of sustainability after the grant period ends.

G. Technical Assistance

Document a willingness to cooperate with ODEP and its technical assistance efforts to provide information and advice to other states on how the HS/HT model can be replicated.

H. Outreach

Describe how the needs of individuals with disabilities from diverse cultures and/or ethnic groups will be addressed.

I. Management Plan

Provide a detailed management plan for project goals, objectives, and activities for the state level HS/HT operations.

V. Funding Availability

The period of performance will be 24 months from the date of execution by the Government. Up to five competitive grants will be awarded in the range of $100,000 to $250,000. It is expected that the funds used for this SGA will support the costs associated with the development, implementation, and evaluation of state level HS/HT programs.

The funds may be used to conduct a variety of activities to support state-level HS/HT operations such as staff training, strategic planning, assessment, curriculum/ materials development, career development, student-focused planning, program alignment, partnership building, etc. Funds are not intended to provide direct services to youth.

VI. Eligible Applicants

Eligible applicants are State Workforce Investment Boards; State Departments of Education; State Departments of Labor; State Developmental Disability Councils; State Departments of Vocational Rehabilitation; or State Committees affiliated with the National Governors' Committees for People with Disabilities, or other similar state agencies. “State” in this context includes the 50 states, the District of Columbia, Puerto Rico, the U. S. Virgin Islands, Guam, and American Samoa. Each grantee must, at a minimum, involve members of three of the other above-mentioned groups in strategic planning and implementation activities with the State Workforce Investment Board constituting a mandatory partner.

Indian and Native American Tribal entities, or consortia of Tribes, with the written approval of their tribal council, are also eligible to receive these grants. Grants to Indian and Native American tribal grantees must recognize principles of sovereignty and self-governance established under the Indian Self-Determination and Education Assistance Act, allowing for the government-to-government relationship between the Federal and Tribal Governments. Tribal entities also must involve, at a minimum, members of three of the other groups mentioned above in strategic planning and implementation activities with the State Workforce Investment Board constituting a mandatory partner.

VII. Application Contents

General Requirements—Two copies and an original of the proposal must be submitted, one of which must contain an original signature. Proposals must be submitted by the applicant only. There are three required sections of the application. Requirements for each section are provided in this application package.

Part I—Executive Summary

The Executive summary should be no more than 2 single-spaced, single-sided pages in length giving a clear summary of the project narrative.

Each application must provide an executive summary, which identifies the following:

• The applicant;

• The type of organization the applicant represents and the additional consortium partners and the type of organization they represent;

• The amount of funds requested;

• The planned period of performance; and

• The extent to which Vocational Rehabilitation and the WIA System will be integrated or coordinated with the HS/HT system.

Part II—Project Narrative (Appendices—Letters of Commitment, Resumes, etc.)

Applicants must include a narrative that addresses the Statement of Work in Part IV and the selection criteria that are used by reviewers in evaluating the application. Part II must be limited to no more than twenty-five (25) pages. This page limit does not apply to Part I, the Executive Summary; Part III the Project Financial Plan (Budget); and the Appendices (the assurances and certifications, resumes, a bibliography or references, and the letters of support.) A page is 8.5″ x 11″ (on one side only) with one-inch margins (top, bottom, and sides). All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch.)

Applicants must include in Part II of the proposal a narrative that addresses all of the Evaluation Criteria (section VIII below) that will be used by reviewers in evaluating individual proposals.

Part III—Project Financial Plan (Budget)

Applications must include a detailed financial plan that identifies by line item the budget plan designed to achieve the goals of this grant. The Financial Plan must contain the SF-424, Application for Federal Assistance (Appendix A) and a Budget Information Sheet SF-424A (Appendix B).

In addition, the budget must include on a separate page a detailed cost analysis of each line item. Justification for administrative costs must be provided. Approval of a budget by DOL is not the same as the approval of actual costs. The individual signing the SF-424 on behalf of the applicant must represent and be able to legally bind the responsible financial and administrative entity for a grant should that application result in an award.

VIII. Evaluation Criteria/Selection

A. Evaluation Criteria

The application must include appropriate information of the type described below.

1. Significance of the Proposed Project (20 Points)

In determining the significance of the proposed project, the Department will consider the following factors:

a. The potential contribution of the proposed project to increase the quality of transition services available in the state;

b. The current level of HS/HT activity in your state and those sites' commitment to work with this application;

c. The extent to which the proposed project is likely to yield findings that may be used by other appropriate agencies and organizations;

d. The extent to which the proposed project involves the development or demonstration of promising new strategies that build upon existing HS/HT strategies;

e. The likely utility of the products (such as information, materials, processes, or techniques) that will result from the proposed project, including the potential for the products to be used effectively in a variety of other states; and

f. The importance or magnitude of the results that are likely to be attained by the proposed project.

2. Quality of the Project Design (30 points)

In evaluating the quality of the proposed project design, the Department considers the following factors:

a. The extent to which the goals, objectives, and outcomes to be achieved are clearly specified and measurable;

b. The extent to which the design of the proposed project features innovative methods for developing new sites and/or strengthening existing sites;

c. The extent to which the proposal incorporates the strategic plan in Part IV, Statement of Work;

d. The extent to which the proposed project is designed to build capacity and yield results that will extend beyond the period of this grant;

e. The extent to which the proposed budget and narrative justification are adequate to support the proposed project.

f. The extent to which the proposed project will be coordinated with similar or related efforts, and with other appropriate community and HS/HT sites, State, and Federal resources;

g. The extent to which the applicant encourages involvement of young people with all disabilities, relevant experts, and organizations in project activities; and,

h. The extent to which performance feedback and continuous improvement are integral to the design of the proposed project.

3. Quality of Project Personnel (10 points)

The Project Narrative must describe the proposed staffing of the project. In addition, it must identify and summarize the qualifications of the personnel who will carry it out.

The projects funded under this notice must make positive efforts to employ and advance in employment qualified individuals with disabilities in project activities. In addition, the Department considers the qualifications, including relevant education, training and experience of key project personnel as well as the qualifications, including relevant training and experience, of project consultants or subcontractors. Resumes must be included in the Appendices.

4. Plan for Sustaining the Statewide HS/HT Program Through Leveraging of Other Resources (25 points)

The Project Narrative must describe a detailed plan for sustaining this project after grant funds cease. Sustainability must be an objective built into the design and ongoing operation of the project. Projects funded under this SGA must leverage a combination of federal, state, and local public sector resources, as well as local non-profit sector resources for purposes of sustainability.

In evaluating the quality of the plan for sustainability, the Department considers the following factors to be of particular importance:

• The extent to which vocational rehabilitation monies are leveraged effectively; and

• The likelihood of the applicant successfully securing state ownership and participation in these projects when these grant funds cease.

Grantees are expected to use this grant as seed money to develop other public and private resources in order to ensure sustainability of grant activities following completion of the funding period. The Department considers detailed commitments for specific new activities as more important than promises of in-kind supports in showing sustained support for the project. Grants recently received from another agency can be discussed in the proposal, but the applicant should be precise about which activities precede this grant and which will occur because of this grant. In addition, the applicant should detail how public sector commitments can contribute to the sustainability of this project following completion of the grant. Examples of the types of public and private sector commitments envisioned include the following:

• The school system commits to offering credit for HS/HT training activities.

• The vocational rehabilitation office commits to funding assistive technology and transportation services for students enrolled in the program.

• A community college commits to providing technology training for HS/HT students.

• State-level elected officials commit to work towards state codification of High School/High Tech.

• An employer commits to providing technology based summer internships.

• State and Local Workforce Investment Boards commit to paying internship costs.

• A university commits to providing scholarships for HS/HT students.

• A developmental disability council commits to funding a new HS/HT site.

• An independent living center commits a staff person to work full time on HS/HT.

Letters of Commitment. Applicants can include letters of support if they provide specific commitments. Such letters can increase an applicant's score by showing that the commitments in the text of the proposal are serious. Form letters will not be considered. We encourage applicants to have letters of support from all existing HS/HT programs in their states.

Letter from the Governor. A letter from the Governor or functionally equivalent entity reflecting support of state level participation in the High School/High Tech program will be viewed favorably. If a letter from the Governor is not feasible, the application must include a letter from the head of an appropriate state agency.

5. Quality of the Management Plan (15 points)

In evaluating the quality of the management plan for the proposed project, the Department will consider the following factors:

a. The extent to which a management plan for project implementation is likely to achieve the objectives of the proposed project on time and within budget, including defined staff responsibilities, and time allocated to project activities, time lines, milestones for accomplishing project tasks and project deliverables;

b. The adequacy of mechanisms for ensuring high-quality products and services from the proposed project; and,

c. The extent to which the time commitments of the state director and/or principal investigator and other key project personnel are appropriate and adequate to meet the objectives of the proposed project.

B. Selection Criteria

Acceptance of a proposal and an award of federal funds to sponsor any program(s) is not a waiver of any grant requirement and/or procedures. Grantees must comply with all applicable Federal statutes, regulations, administrative requirements and OMB Circulars. For example, the OMB Circulars require, and an entities procurement procedures must require that all procurement transactions shall be conducted, as practical, to provide open and free competition. If a proposal identifies a specific entity to provide the services, the award does not provide the justification or basis to sole-source the procurement, i.e., avoid competition.

A panel will objectively rate each complete application against the criteria described in this SGA. The panel recommendations to the Grant Officer are advisory in nature. The Grant Officer may elect to award grants either with or without discussion with the applicant. In situations where no discussion occurs, an award will be based on the signed SF 424 form (see Appendix A), which constitutes a binding offer. The Grant Officer may consider the availability of funds and any information that is available and will make final award decisions based on what is most advantageous to the government, considering factors such as:

1. findings of the grant technical evaluation panel;

2. geographic distribution of the competitive applications;

3. assuring a variety of different program designs; and,

4. the availability of funds.

IX. Reporting

The Department of Labor is responsible for ensuring the effective implementation of each competitive grant project in accordance with the provisions of this announcement, the grant agreement and other applicable administrative requirements. Applicants should assume that Department staff or their designees will conduct at least one on-site project review. In addition, all grantees will be expected to provide information on outcomes (post-secondary education and employment) of the youth with disabilities served through the HS/HT program.

Applicants must submit on a quarterly basis, beginning ninety days from the award of the grant, financial and participation reports under this program as prescribed by OMB Circular A-102 and A-110, as codified by 29 CFR parts 97 and 95 respectively. Specifically the following reports will be required:

1. Quarterly reports; The quarterly report is estimated to take five hours to complete. The form for the Quarterly Report will be provided by ODEP. The Department will work with the grantee to help refine the requirements of the report, which will, among other things, include measures of ongoing analysis for continuous improvement and customer satisfaction.

2. Standard Form 269; Financial Status Report Form, on a quarterly basis.

3. Final Project Report; including an assessment of project performance and outcomes achieved. The final report is estimated to take twenty hours. This report will be submitted in hard copy and on electronic disk using a format and following instructions, which will be provided by the Department. A draft of the final report is due to the Department thirty days before the termination of the grant. The final report is due to DOL sixty days following the termination of the grant.

DOL will arrange for and conduct an independent evaluation of the outcomes, impacts, and accomplishments of each funded project. Grantees must agree to make available records on all parts of project activity, including participant post secondary and employment data, and to provide access to personnel, as specified by the evaluator(s), under the direction of the Department. This independent evaluation is separate from the ongoing evaluation for continuous improvement required of the grantee for project implementation.

X. Administration Provisions

A. Administrative Standards and Provisions

Grantees are strongly encouraged to read these regulations before submitting a proposal. The grant awarded under this SGA shall be subject to the following as applicable:

29 CFR part 95—Grants and Agreements With Institutions of Higher Education, Hospitals, and Other Non-Profit Organizations, and With Commercial Organizations, Foreign Governments, Organizations Under the Jurisdiction of Foreign Governments, and International Organizations;

29 CFR part 96—Audit Requirements for Grants, Contracts, and Other Agreements.

29 CFR part 97—Uniform Administrative Requirement for Grants and Cooperative Agreements to State and Local Governments.

B. Allowable Cost

Determinations of allowable costs shall be made in accordance with the following applicable Federal cost principles:

State and Local Government—OMB Circular A-87

Nonprofit Organizations—OMB Circular A-122

Profit-Making Commercial Firms—48 CFR part 31

Profit will not be considered an allowable cost in any case.

C. Grant Assurances

As a condition of the award, the applicant must certify that it will comply fully with the nondiscrimination and equal opportunity provisions of the following laws:

29 CFR part 31—Nondiscrimination in Federally-assisted programs of the Department of Labor, effectuation of Title VI of the Civil Rights Act of 1964.

29 CFR part 32—Nondiscrimination on the Basis of Disability in Programs and Activities Receiving or Benefiting from Federal Assistance. (Implementing section 504 of the Rehabilitation Act, 29 U.S.C. 794).

29 CFR part 36—Nondiscrimination on the Basis of Sex in Education Programs or Activities Receiving Federal Financial Assistance. (Implementing title IX of the Education Amendments of 1972, 20 U.S.C. 1681 et seq.).

29 CFR part 37—Nondiscrimination and Equal Opportunity Provisions of the Workforce Investment Act of 1998 (WIA), (Implementing Section 188 of the Workforce Investment Act, 29 U.S.C. 2938).

The applicant must include assurances and certifications that it will comply with these laws in its grant application. The assurances and certifications are attached as Appendix C.

Signed at Washington, DC, this 16th day of July, 2002.
Lawrence J. Kuss,
Grant Officer.

APPENDIX A. Application for Federal Assistance, Form SF 424

APPENDIX B. Budget Information Sheet, Form SF 424A

APPENDIX C. Assurances and Certifications Signature Page

BILLING CODE 4510-CX-P

[FR Doc. 02-18423 Filed 7-19-02; 8:45 am]

BILLING CODE 4510-CX-C